DEPARTMENT OF TRANSPORTATION

Federal Aviation Administration

Noise Compatibility Program Notice; Collin County Regional Airport; McKinney, Texas

AGENCY: Federal Aviation Administration, DOT.

ACTION: Notice.

SUMMARY: The Federal Aviation Administration (FAA) announces its findings on the noise compatibility program submitted by the city of McKinney under the provisions of 49 U.S.C. (the Aviation Safety and Noise Abatement Act, hereinafter referred to as “the Act”) and 14 CFR Part 150. These findings are made in recognition of the description of Federal and nonfederal responsibilities in Senate Report No. 96-52 (1980). On November 1, 2005 the FAA determined that the noise exposure maps submitted by the city of McKinney under Part 150 were in compliance with applicable requirements. On April 28, 2006, the FAA approved the Collin County Regional Airport noise compatibility program. Most of the recommendations of the program were approved.

DATES: Effective Date: The effective date of the FAA's approval of the Collin County Regional Airport noise compatibility program is April 28, 2006.

FOR FURTHER INFORMATION CONTACT: Mr. Paul Blackford, Environmental Specialist, Federal Aviation Administration, Texas Airports Development Office, ASW-650, 2601 Meacham Boulevard, Fort Worth, Texas 76193-0650. Telephone (817) 222-5607. Documents reflecting this FAA action may be reviewed at this same location.

SUPPLEMENTARY INFORMATION: This notice announces that the FAA has given its overall approval to the noise compatibility program for Collin County Regional Airport, effective April 28, 2006.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where federal funding is sought, requests for project grants must be submitted to the FAA regional office in Fort Worth, Texas.

The city of McKinney submitted to FAA on October 3, 2005, the noise exposure maps, descriptions, and other documentation produced during the noise compatibility planning study conducted from April 2003 through October 2005. The Collin County Regional Airport noise exposure maps were determined by FAA to be in compliance with applicable requirements on November 1, 2005. Notice of this determination was published in the Federal Register on November 14, 2005.

The Collin County Regional Airport study contains a proposed noise compatibility program comprised of actions designed for phased implementation by airport management and adjacent jurisdictions. It was requested that the FAA evaluate and approve this material as a noise compatibility program as described in section 47504 of the Act. The FAA began its review of the program on November 1, 2005, and was required by a provision of the Act to approve or disapprove the program within 180 days (other than the use of new or modified flight procedures for noise control). Failure to approve or disapprove such program within the 180-day period shall be deemed an approval of such program.

The submitted program contained twenty-one (21) proposed actions for noise mitigation on and off the airport. The FAA completed its review and determined that the procedural and substantive requirements of the Act and FAR Part 150 have been satisfied. The overall program, therefore, was approved by the FAA effective April 28, 2006.

Outright approval was granted for thirteen (13) of the specific program elements. Three (3) elements were disapproved, four (4) elements were disapproved pending submittal of additional information, and one (1) element required no action. Disapproved elements include a recommendation to remove runway end signs (element 1b), a recommendation to include selected alternatives for study in National Environmental Policy Act (NEPA) documents (element 1c), and a recommendation addressing jet aircraft visual arrivals to runway 35 (elements 3). The elements did not meet Part 150 approval criteria of reducing non-compatible land uses exposed to 65 DNL. Element 3 was additionally disapproved because of its potential to create unsafe aircraft operating conditions. Elements disapproved pending submittal of additional information include establishment of departure procedures for aircraft departing runway 35 (element 2), establishment of noise abatement procedures for jet departures to the south (element 4), designation of engine run-up locations (element 8a), and restrictions to hours in which aircraft engine maintenance run-ups may be performed (element 8b). Supporting information, for each of the four elements, is required to quantify affects on non-compatible land uses and demonstrate potential benefits. Approved measures include recommendations for helicopter operations near the airport (two elements, approved as voluntary); continuance of flight training predominantly east of the airport (approved as voluntary); and fixed-wing training aircraft maintain current patterns east of the airport (approved as voluntary). Additionally nine (9) measure contained in the Future Noise Abatement/Land Use Control Recommendations were approved. These determinations are set forth-in detail in a Record of Approval signed by the Acting Associate Administrator for Airports, ARP-1, on April 28, 2006. The Record of Approval, as well as other evaluation materials and the documents comprising the submittal, are available for review at the FAA office listed above and at the administrative offices of the Collin County Regional Airport. The Record of Approval also will be available on-line at http://www.faa.gov/arp/environmental/14cfr150/index14.cfm.

Issued in Fort Worth, Texas, May 11, 2006.
Kelvin L. Solco,
Manager, Airports Division.

[FR Doc. 06-4732 Filed 5-19-06; 8:45 am]

BILLING CODE 4910-13-M